DEPARTMENT OF HEALTH AND HUMAN SERVICES

Ninth Meeting of the National Clinical Care Commission

AGENCY: Office on Women's Health, Office of the Assistant Secretary for Health, Office of the Secretary, Department of Health and Human Services.

ACTION: Notice.

SUMMARY: The National Clinical Care Commission (the Commission) will conduct its ninth meeting virtually on November 17, 2020. The Commission is charged to evaluate and make recommendations to the U.S. Department of Health and Human Services (HHS) Secretary and Congress regarding improvements to the coordination and leveraging of federal programs related to diabetes and its complications.

DATES: The meeting will take place on November 17, 2020, from 1 p.m. to approximately 5:30 p.m. Eastern Standard time (EST).

ADDRESSES: The meeting will be held online via webinar. To register to attend the meeting, please visit the registration website at https://kauffmaninc.adobeconnect.com/nccc_9/event/event_info.html.

FOR FURTHER INFORMATION CONTACT: Clydette Powell, M.D., M.P.H., F.A.A.P., Designated Federal Officer, National Clinical Care Commission, U.S. Department of Health and Human Services, Office on Women's Health, 200 Independence Ave. SW 7th Floor, Washington DC 20201. Phone: (240) 453-8239. Email: OHQ@hhs.gov.

SUPPLEMENTARY INFORMATION: The National Clinical Care Commission Act (Pub. L. 115-80) requires the HHS Secretary to establish the National Clinical Care Commission. The Commission consists of representatives of specific federal agencies and non-federal individuals who represent diverse disciplines and views. The Commission will evaluate and make recommendations to the HHS Secretary and Congress regarding improvements to the coordination and leveraging of federal programs related to diabetes and its complications.

The ninth meeting will be held virtually and will consist of updates from the Commission's three subcommittees and a discussion of public comments and outreach to stakeholder organizations. Additionally, the Commission will discuss the second round of potential “action plans” from the subcommittees (i.e., recommendations). The final meeting agenda will be available prior to the meeting at https://health.gov/our-work/health-care-quality/national-clinical-care-commission/meetings.

Public Participation at Meeting: The Commission invites public comment on issues related to the Commission's charge. There will be an opportunity for limited oral comments (each no more than 3 minutes in length) at this virtual meeting. Virtual attendees who plan to provide oral comments at the Commission meeting during a designated time must register prior to the meeting at https://kauffmaninc.adobeconnect.com/nccc_9/event/event_info.html.

Written comments are welcome throughout the entire development process of the Commission's work and may be emailed to OHQ@hhs.gov. Written comments should not exceed three pages in length.

Individuals who need special assistance, such as sign language interpretation or other reasonable accommodations, should indicate the special accommodation when registering online or by notifying Jennifer Gillissen at jennifer.gillissen@kauffmaninc.com by November 9, 2020.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: October 27, 2020.
Dorothy Fink,
Deputy Assistant Secretary for Women's Health, Office of the Assistant Secretary for Health.

[FR Doc. 2020-24126 Filed 10-29-20; 8:45 am]

BILLING CODE 4150-32-P